NUCLEAR REGULATORY COMMISSION

Withdrawal of Regulatory Guide

AGENCY: Nuclear Regulatory Commission.

ACTION: Withdrawal of Regulatory Guide 8.1.

FOR FURTHER INFORMATION CONTACT: Mark P. Orr, U.S. Nuclear Regulatory Commission, Washington, DC 20555-0001, telephone: 301-415-6373 or e-mail to Mark.Orr@nrc.gov.

SUPPLEMENTARY INFORMATION:

I. Introduction

The U.S. Nuclear Regulatory Commission (NRC) is withdrawing Regulatory Guide 8.1, “Radiation Symbol,” published February 2, 1973. The NRC is withdrawing this regulatory guide because it is no longer required.

Regulatory Guide 8.1 references Title 10 of the Code of Federal Regulations, Subsection 20.203 (10 CFR 20.203), which has been deleted from the CFR. The current regulations for the radiation symbol are found in 10 CFR 20.1901, “Caution Signs.” The guide is no longer required because the current regulations in 10 CFR 20.1901(a) provide a specific description for the design of the approved trefoil radiation symbol. The instructions in 10 CFR 20.1901(a) are sufficient and no additional guidance is needed.

Regulatory Guide 8.1 is a one-page guide that endorses American National Standards Institute (ANSI) Standard N2.1-1969, “Radiation Symbol,” dated October 27, 1969. This standard was revised in 1989 and issued as ANSI N2.1-1989. It was later withdrawn in accordance with the ANSI policy not to extend a standard's period of endorsement beyond 10 years and it has not been replaced.

II. Further Information

The withdrawal of Regulatory Guide 8.1 does not, in and of itself, alter any prior or existing licensing commitments based on its use. The guidance provided in this regulatory guide is no longer necessary. Regulatory guides may be withdrawn when their guidance is superseded by congressional action or no longer provides useful information.

Regulatory guides are available for inspection or downloading through the NRC's public Web site under “Regulatory Guides” in the NRC's Electronic Reading Room at http://www.nrc.gov/reading-rm/doc-collections. Regulatory guides are also available for inspection at the NRC's Public Document Room (PDR), Room O-1 F21, One White Flint North, 11555 Rockville Pike, Rockville, MD 20852-2738. The PDR's mailing address is U.S. NRC PDR, Washington, DC 20555-0001. The PDR staff can be reached by telephone at 301-415-4737 or 800-397-4209, by fax at 301-415-3548, and by e-mail to pdr@nrc.gov.

Regulatory guides are not copyrighted, and NRC approval is not required to reproduce them.

Dated at Rockville, Maryland, this 10th day of September 2008.
For the Nuclear Regulatory Commission.
Stephen C. O'Connor,
Acting Chief, Regulatory Guide Development Branch, Division of Engineering, Office of Nuclear Regulatory Research.

[FR Doc. E8-21567 Filed 9-15-08; 8:45 am]

BILLING CODE 7590-01-P